DEPARTMENT OF AGRICULTURE

Forest Service

Environmental Assessment for the North Light Creek Bridge Replacement, Hiawatha National Forest, Munising Ranger District, Alger County, MI

AGENCY: Forest Service, USDA.

ACTION: Notice; request for comment.

SUMMARY: The Forest Service is seeking public comment on proposed replacement of the North Light Creek Bridge, located within the Grand Island Research Natural Area and Grand Island National Recreation Area, Munising Ranger District, Alger County, Michigan.

The Responsible Official for decisions on permanent structures within Research Natural Areas, such as the proposed replacement bridge, is Dale Bosworth, Chief of the Forest Service (36 CFR 251.23). Forest Service appeal regulations require that legal notice of opportunity to comment on proposed actions be published in the Federal Register and the newspaper of record (36 CFR 215.5).

DATES: Comments on the proposed action must be received at the Munising Ranger District on or before 30 days from the date of publication in the newspaper of record, the “Mining Journal,” located in Marquette, Michigan. If the comment period ends on a Saturday, Sunday, or Federal holiday, comments will be accepted until the end of the next Federal working day.

ADDRESSES: The environmental assessment for the proposal is available on-line at http://www.fs.fed.us/r9/hiawatha/planning.htm, and in print from the Munising Ranger District, 400 East Munising Avenue, Munising, MI 49862, Attn: NLCB. Comments may be submitted orally, in writing, or via electronic mail. For oral comments, call Teresa Chase, District Ranger, at (906) 387-2512, extension 14. Written comments may be addressed to the Munising District Ranger at the above address or faxed to (906) 387-2070. Electronic mail comments must be sent to: comments-eastern-hiawatha-munising@fs.fed.us. Please include “North Light Creek Bridge Comments” in the subject line of the e-mail. Office hours for hand delivered or oral (in person or by telephone) comments are 8 a.m. to 4:30 p.m., Monday through Friday.

FOR FURTHER INFORMATION CONTACT: Teresa Chase, Munising District Ranger, at (906) 387-2512, extension 14. Individuals who use telecommunication devices for the deaf (TDD) may call 906-387-3371 between 8 a.m. and 4:30 p.m., Central Daylight Time, Monday through Friday.

SUPPLEMENTARY INFORMATION: The North Light Creek Bridge is located within the Grand Island National Recreation Area. The bridge is an integral part of an historic travel route around the rim of the island. The bridge is currently in severe disrepair and is closed to traffic. Visitors to Grand Island place themselves at risk by crossing North Light Creek. Repair or replacement is needed for visitor safety, maintenance of the historic travel route, and sustaining the long-term recreation objectives in the Grand Island Management Plan. The Forest Service is proposing to replace the bridge, and is considering three alternatives: No action/no replacement (Alternative 1), replacement with a glue-laminate arch bridge with a treated wood deck (Alternative 2), and replacement with a steel pony truss bridge with a treated wood deck (Alternative 3).

Opportunity for public comment was previously provided in the newspaper of record, the “Mining Journal,” Marquette, Michigan, on October 7, 2004. However, notice was not published in the Federal Register as required by 36 CFR 215.5 when the Chief of the Forest Service is the Responsible Official. This opportunity to comment corrects the original omission. Substantive comments that were timely submitted in response to the October 7, 2004, notice in the newspaper of record need not be re-submitted and will be considered in arriving at a decision or in determining standing to appeal the decision.

Only those who submit timely and substantive comments will be accepted as appellants. Substantive comments that are within the scope of the proposed action, specific to the proposed action, or that have a direct relationship to the proposed action and include supporting reasons, are most helpful to the Forest Service in arriving at a decision (36 CFR 215.2). For appeal eligibility, each individual or representative from each organization submitting substantive comments must either sign the comments or verify identity upon request. Acceptable formats for electronic comments are text or HTML e-mail, Adobe Portable Document Format (PDF), and Microsoft Office formats.

Dated: June 23, 2005.
Timothy DeCoster,
Acting Deputy Chief, Programs, Legislation & Communications.

[FR Doc. 05-12786 Filed 6-28-05; 8:45 am]

BILLING CODE 3410-11-P